DEPARTMENT OF HOMELAND SECURITY

Federal Emergency Management Agency

[Docket ID FEMA-2021-0002; Internal Agency Docket No. FEMA-B-2108]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona: Pima | Unincorporated Areas of Pima County, (20-09-1372P). | The Honorable Ramon Valadez, Chairman, Board of Supervisors, Pima County, 130 West Congress Street, 11th Floor, Tucson, AZ 85701. | Pima County Flood Control District, 201 North Stone Avenue, 9th Floor, Tucson, AZ 85701. | https://msc.fema.gov/portal/advanceSearch. | Mar. 8, 2021 | 040073
California:
Los Angeles | City of Los Angeles, (20-09-1031P). | The Honorable Eric Garcetti, Mayor, City of Los Angeles, 200 North Spring Street, Room 303, Los Angeles, CA 90012. | Department of Public Works, Stormwater Public Counter, 1149 South Broadway, 8th Floor, Los Angeles, CA 90015. | https://msc.fema.gov/portal/advanceSearch. | Mar. 4, 2021 | 060137
Orange | City of Irvine, (20-09-1008P). | The Honorable Christina L. Shea, Mayor, City of Irvine, City Hall, 1 Civic Center Plaza, Irvine, CA 92606. | City Hall, 1 Civic Center Plaza, Irvine, CA 92623. | https://msc.fema.gov/portal/advanceSearch. | Mar. 5, 2021 | 060222
San Diego | Unincorporated Areas of San Diego County, (20-09-2025P). | The Honorable Greg Cox, Chairman, Board of Supervisors, San Diego County, 1600 Pacific Highway, San Diego, CA 92101. | San Diego County Flood Control District, Department of Public Works, 5510 Overland Avenue, Suite 410, San Diego, CA 92123. | https://msc.fema.gov/portal/advanceSearch. | Apr. 14, 2021 | 060284
Ventura | City of Simi Valley, (19-09-2151P). | The Honorable Keith L. Mashburn, Mayor, City of Simi Valley, 2929 Tapo Canyon Road, Simi Valley, CA 93063. | City Hall, 2929 Tapo Canyon Road, Simi Valley, CA 93063. | https://msc.fema.gov/portal/advanceSearch. | Apr. 27, 2021 | 060421
Florida:
Clay | Unincorporated Areas of Clay County, (20-04-2911P). | Mr. Mike Cella, Chairperson, Board of Clay County Commissioners, P.O. Box 1366, Green Cove Springs, FL 32043. | Clay County, 321 Walnut Street, Green Cove Springs, FL 32043. | https://msc.fema.gov/portal/advanceSearch. | Apr. 29, 2021 | 120064
Duval | City of Jacksonville, (20-04-2911P). | The Honorable Lenny Curry, Mayor, City of Jacksonville, City Hall at St. James Building, 117 West Duval Street, Suite 400, Jacksonville, FL 32202. | City Hall, 117 West Duval Street, Room 100, Jacksonville, FL 32202. | https://msc.fema.gov/portal/advanceSearch. | Apr. 29, 2021 | 120077
Duval | City of Jacksonville, (20-04-3128P). | The Honorable Lenny Curry, Mayor, City of Jacksonville, City Hall at St. James Building, 117 West Duval Street, Suite 400, Jacksonville, FL 32202. | City Hall, 117 West Duval Street, Room 100, Jacksonville, FL 32202. | https://msc.fema.gov/portal/advanceSearch. | May 5, 2021 | 120077
St. Johns | Unincorporated Areas of St. Johns County, (20-04-2994P). | Mr. Jeb S. Smith, Chair, St. Johns County Board of County Commissioners, 500 San Sebastian View, St. Augustine, FL 32084. | St. Johns County Permit Center, 4040 Lewis Speedway, St. Augustine, FL 32084. | https://msc.fema.gov/portal/advanceSearch. | Apr. 15, 2021 | 125147
St. Johns | Unincorporated Areas of St. Johns County, (20-04-3165P). | Mr. Jeb S. Smith, Chair, St. Johns County Board of County Commissioners, 500 San Sebastian View, St. Augustine, FL 32084. | St. Johns County Permit Center, 4040 Lewis Speedway, St. Augustine, FL 32084. | https://msc.fema.gov/portal/advanceSearch. | May 13, 2021 | 125147
Illinois:
Cook | Unincorporated Areas of Cook County, (21-05-0108P). | Toni Preckwinkle, County Board President Cook County, 118 North Clark Street, Room 537, Chicago, IL 60602. | Cook County Building and Zoning Department, 69 West Washington, Suite 2830, Chicago, IL 60602. | https://msc.fema.gov/portal/advanceSearch. | May 4, 2021 | 170054
Cook | Village of Orland Park (21-05-0108P). | The Honorable Keith Pekau, Mayor, Village of Orland Park, 14700 South Ravinia Avenue, Orland Park, IL 60462. | Village Hall, 14700 South Ravinia Avenue, Orland Park, IL 60462. | https://msc.fema.gov/portal/advanceSearch. | May 4, 2021 | 170140
DuPage | City of Naperville, (20-05-3287P). | The Honorable Steve Chirico, Mayor, City of Naperville, 400 South Eagle Street, Naperville, IL 60540. | Municipal Center, 400 South Eagle Street, Naperville, IL 60540. | https://msc.fema.gov/portal/advanceSearch. | Apr. 26, 2021 | 170213
DuPage | City of Wheaton, (20-05-3287P). | The Honorable Philip J. Suess, Mayor, City of Wheaton, 303 West Wesley Street, Wheaton, IL 60187. | City Hall, 303 West Wesley Street, Wheaton, IL 60187. | https://msc.fema.gov/portal/advanceSearch. | Apr. 26, 2021 | 170221
DuPage | Unincorporated Areas of DuPage County (20-05-3287P). | Dan Cronin, Chairman, DuPage County Board, 421 North County Farm Road, Wheaton, IL 60187. | County Administration Building, Stormwater Management, 421 North County Farm Road, Wheaton, IL 60187. | https://msc.fema.gov/portal/advanceSearch. | Apr. 26, 2021 | 170197
Rock Island | City of Rock Island, (20-05-2335P). | The Honorable Mike Thoms, Mayor, City of Rock Island, 1528 3rd Avenue, Rock Island, IL 61201. | City Hall, 1528 3rd Avenue, Rock Island, IL 61201. | https://msc.fema.gov/portal/advanceSearch. | Apr. 21, 2021 | 175171
Kansas: Johnson | City of Shawnee, (20-07-1084P). | The Honorable Michelle Distler, Mayor, City of Shawnee, City Hall, 11110 Johnson Drive, Shawnee, KS 66203. | City Hall, 11110 Johnson Drive, Shawnee, KS 66203. | https://msc.fema.gov/portal/advanceSearch. | Apr. 28, 2021 | 200177
Minnesota:
Norman | City of Halstad, (20-05-2194P). | The Honorable Lori Delong, Mayor, City of Halstad, 405 2nd Avenue West, Halstad, MN 56548. | Administrative Building, 405 2nd Avenue West, Halstad, MN 56548. | https://msc.fema.gov/portal/advanceSearch. | Mar. 10, 2021 | 270324
Norman | City of Hendrum, (20-05-2263P). | The Honorable Curt Johannsen, Mayor, City of Hendrum, P.O. Box 100, Hendrum, MN 56550. | Administrative Building, 308 Main Street East, Hendrum, MN 56550. | https://msc.fema.gov/portal/advanceSearch. | Mar. 10, 2021 | 270325
Norman | Unincorporated Areas of Norman County (20-05-2194P). | Ms. Lee Ann Hall, Chair, Norman County Board of Commissioners, 315 West Main Street, Ada, MN 56510. | Norman County Court House, 16 3rd Avenue East, Ada, MN 56510. | https://msc.fema.gov/portal/advanceSearch. | Mar. 10, 2021 | 270322
Norman | Unincorporated Areas of Norman County (20-05-2263P). | Ms. Lee Ann Hall, Chair, Norman County Board of Commissioners, 315 West Main Street, Ada, MN 56510. | Norman County Court House, 16 3rd Avenue East, Ada, MN 56510. | https://msc.fema.gov/portal/advanceSearch. | Mar. 10, 2021 | 270322
Missouri:
Boone | City of Columbia, (21-07-0104P). | The Honorable Brian Treece, Mayor, City of Columbia, P.O. Box 6015, Columbia, MO 65205. | City Hall, 701 East Broadway, Columbia, MO 65205. | https://msc.fema.gov/portal/advanceSearch. | Apr. 21, 2021 | 290036
Boone | Unincorporated Areas of Boone County, (21-07-0104P). | Mr. Bill Florea, Director, Resource Management, Boone County, 801 East Walnut Street Room 333, Columbia, MO 65201. | Boone County Government Center Assessor's Office, 801 East Walnut Street, 1st Floor, Columbia, MO 65201. | https://msc.fema.gov/portal/advanceSearch. | Apr. 21, 2021 | 290034
Nevada: Carson City | City of Carson City, (20-09-0437P). | The Honorable Brad Bonkowski, Mayor, City of Carson City, City Hall, 201 North Carson Street, Suite 2, Carson City, NV 89701. | Building Division, Permit Center, 108 East Proctor Street, Carson City, NV 89701. | https://msc.fema.gov/portal/advanceSearch. | Feb. 18, 2021 | 320001
New York:
Queens | City of New York, (20-02-1119P). | The Honorable Bill de Blasio, Mayor, City of New York, City Hall, New York, NY 10007. | Department of City Planning, Waterfront Division, 22 Reade Street, New York, NY 10007. | https://msc.fema.gov/portal/advanceSearch. | Jun. 2, 2021 | 360497
Richmond | City of New York, (20-02-1564P). | The Honorable Bill de Blasio, Mayor, City of New York, City Hall, New York, NY 10007. | Department of City Planning, Waterfront Division, 22 Reade Street, New York, NY 10007. | https://msc.fema.gov/portal/advanceSearch. | Jun. 16, 2021 | 360497
North Dakota:
Traill | Township of Herberg, (20-05-2194P). | Mr. Steven Reinpold, Chairman, Township of Herberg, 221 169th Avenue, Hillsboro, ND 58045. | County Courthouse, 114 West Caledonia, Hillsboro, ND 58045. | https://msc.fema.gov/portal/advanceSearch. | Mar. 10, 2021 | 380621
Traill | Township of Elm River, (20-05-2263P). | Mr. Todd Harrington, Supervisor, Township of Elm River, 948 173rd Avenue, Grandin, ND 58038. | County Courthouse, 114 West Caledonia, Hillsboro, ND 58045. | https://msc.fema.gov/portal/advanceSearch. | Mar. 10, 2021 | 380636
Ohio:
Franklin | City of Columbus, (20-05-4648P). | The Honorable Andrew J. Ginther, Mayor, City of Columbus, 90 West Broad Street, 2nd Floor, Columbus, OH 43215. | Department of Development, 757 Carolyn Avenue, Columbus, OH 43224. | https://msc.fema.gov/portal/advanceSearch. | Apr. 1, 2021 | 390170
Warren | City of Lebanon, (20-05-3843P). | The Honorable Amy Brewer, Mayor, City of Lebanon, 50 South Broadway, Lebanon, OH 45036. | City Hall, 50 South Broadway, Lebanon, OH 45036. | https://msc.fema.gov/portal/advanceSearch. | May 3, 2021 | 390557
Oregon: Columbia | City of Scappoose, (21-10-0251P). | The Honorable Scott Burge, Mayor, City of Scappoose, 33568 East Columbia Avenue, Scappoose, OR 97056. | Community Development Center, 52610 Northeast 1st Street, Suite 120, Scappoose, OR 97056. | https://msc.fema.gov/portal/advanceSearch. | Apr. 19, 2021 | 410039
Texas:
Dallas | City of Carrollton, (20-06-1319P). | The Honorable Kevin Falconer, Mayor, City of Carrollton, P.O. Box 110535, Carrollton, TX 75011. | Engineering Department, 1945 East Jackson Road, Carrollton, TX 75011. | https://msc.fema.gov/portal/advanceSearch. | Apr. 12, 2021 | 480167
Dallas | City of Mesquite, (20-06-2074P). | The Honorable Bruce Archer, Mayor, City of Mesquite, P.O. Box 850137, Mesquite, TX 75185. | Engineering Division, 1515 North Galloway Avenue, Mesquite, TX 75149. | https://msc.fema.gov/portal/advanceSearch. | Apr. 8, 2021 | 485490
Dallas | City of Richardson, (20-06-1189P). | The Honorable Paul Voelker, Mayor, City of Richardson, City Hall, 411 West Arapaho Road, Richardson, TX 75080. | Engineering Office, 411 West Arapaho Road, Richardson, TX 75080. | https://msc.fema.gov/portal/advanceSearch. | Apr. 22, 2021 | 480184
Wisconsin:
Iron | Unincorporated Areas of Iron County, (20-05-2553P). | Mr. Joseph Pinardi, Chairman, Iron County, 406 Maple Street, Hurley, WI 54534. | Iron County, Comprehensive Planning, Land and Zoning Department, 300 Taconite Street, Suite 115, Hurley, WI 54534. | https://msc.fema.gov/portal/advanceSearch. | Apr. 9, 2021 | 550182
Outagamie | City of Appleton, (20-05-2300P). | The Honorable Jake Woodford, Mayor, City of Appleton, City Hall, 100 North Appleton Street, Appleton, WI 54911. | City Hall, 100 North Appleton Street, Appleton, WI 54911. | https://msc.fema.gov/portal/advanceSearch. | Apr. 28, 2021 | 555542
Outagamie | Unincorporated Areas of Outagamie County, (20-05-2300P). | Mr. Thomas M. Nelson, County Executive, Outagamie County, 320 South Walnut Street, Appleton, WI 54911. | Outagamie County Building, 410 South Walnut Street, Appleton, WI 54911. | https://msc.fema.gov/portal/advanceSearch. | Apr. 28, 2021 | 550302

[FR Doc. 2021-03763 Filed 2-23-21; 8:45 am]

BILLING CODE 9110-12-P